DEPARTMENT OF ENERGY

National Nuclear Security Administration

Extension of the Public Review and Comment Period and Announcement of an Additional Public Hearing for the Draft Surplus Plutonium Disposition Supplemental Environmental Impact Statement

AGENCY: National Nuclear Security Administration, U.S. Department of Energy.

ACTION: Extension of the public review and comment period and announcement of an additional public hearing.

SUMMARY: On July 27, 2012, the U.S. Department of Energy (DOE) published a notice of availability for the Draft Surplus Plutonium Disposition Supplemental Environmental Impact Statement (SPD Supplemental EIS; DOE/EIS-0283-S2) for public review and comment. That notice stated that the public review and comment period would continue until September 25, 2012. DOE has decided to extend the public comment period by 15 days, and to hold an additional public hearing.

DATES: The public comment period is extended by 15 days from September 25, 2012 through October 10, 2012.

The additional public hearing will be held on Tuesday, September 18, 2012 in Española, NM.

ADDRESSES: The Draft SPD Supplemental EIS and reference material are available for review at National Nuclear Security Administration (NNSA) NEPA Web site at http://www.nnsa.energy.gov/nepa/spdsupplementaleis.

Please direct written comments on the Draft SPD Supplemental EIS to Ms. Sachiko McAlhany, SPD Supplemental EIS NEPA Document Manager, U.S. Department of Energy, P.O. Box 2324, Germantown, MD 20874-2324. Comments may also be submitted via email to spdsupplementaleis@saic.com or by toll-free fax to 877-865-0277. DOE will give equal weight to written, email, fax, telephone, and oral comments. Comments, questions regarding the Supplemental EIS process, and requests to be placed on the SPD Supplemental EIS mailing list should be directed to Ms. McAlhany by any of the means given above or by calling toll-free 877-344-0513.

FOR FURTHER INFORMATION CONTACT: For general information about the DOE NEPA process, please contact: Ms. Carol Borgstrom, Director, Office of NEPA Policy and Compliance (GC-54), U.S. Department of Energy, 1000 Independence Avenue SW., Washington, DC 20585, telephone 202-586-4600, or leave a message at 800-472-2756. Additional information regarding DOE NEPA activities and access to many of DOE's NEPA documents are available on the Internet through the DOE NEPA Web site at http://www.energy.gov/nepa.

SUPPLEMENTARY INFORMATION: On July 27, 2012, the U.S. Department of Energy (DOE) published a notice of availability for the Draft Surplus Plutonium Disposition Supplemental Environmental Impact Statement (SPD Supplemental EIS; DOE/EIS-0283-S2) for public review and comment. (77 FR 44222) That notice stated that the public review and comment period would continue until September 25, 2012. DOE has decided to extend the public comment period by 15 days through October 10, 2012.

Also, in addition to the public hearings being conducted as announced in the notice of availability, DOE will hold one additional hearing on the Draft SPD Supplemental EIS at the following location:

• September 18, 2012 (5:30 p.m. to 8 p.m.) Northern New Mexico College, Española Campus, Center for Fine Arts Building, 921 N. Paseo de Oñate, Española, New Mexico 87532.

Individuals who would like to present comments orally at this hearing should register upon arrival at the hearing. Speaking time will be allotted by the hearing moderator to each individual wishing to speak to ensure that all who wish to speak have the opportunity to do so. DOE representatives will be available during an open house portion of these hearings to discuss the Draft SPD Supplemental EIS. Following a presentation by DOE, the public will have an opportunity to provide oral and written comments during the formal portion of the hearing.

The Draft SPD Supplemental EIS analyzes the potential environmental impacts of alternatives for disposition of 13.1 metric tons (14.4 tons) of surplus plutonium for which DOE has not made a disposition decision, including 7.1 metric tons (7.8 tons) of plutonium from pits that were declared excess to national defense needs. It also updates previous DOE NEPA analyses on plutonium disposition to consider additional options for pit disassembly and conversion, which entails processing plutonium metal components to produce an oxide form of plutonium suitable for disposition, and the use of mixed oxide (MOX) fuel fabricated from surplus plutonium in domestic commercial nuclear power reactors to generate electricity, including five reactors at two specific Tennessee Valley Authority (TVA) reactor plants. DOE is not revisiting the decision to fabricate 34 metric tons (MT) (37.5 tons) of surplus plutonium into MOX fuel in the MOX Fuel Fabrication Facility (MFFF) (65 FR 1608, January 11, 2000 and 68 FR 20134, April 24, 2003), now under construction at DOE's Savannah River Site (SRS) in South Carolina, and to irradiate the MOX fuel in commercial nuclear reactors used to generate electricity.

TVA is a cooperating agency on this SPD Supplemental EIS. TVA is considering the use of MOX fuel, produced as part of DOE's Surplus Plutonium Disposition Program, in its nuclear power reactors.

Comments on the Draft SPD Supplemental EIS may be submitted according to the instructions provided above under ADDRESSES. In preparing the final SPD Supplemental EIS, DOE will consider all comments presented at the hearing, comments received by fax or email and comments postmarked by the end of the comment period. DOE will consider comments received after that date to the extent practicable.

Issued in Washington, DC, on August 30, 2012.
Neile Miller,
Principal Deputy Administrator for the National Nuclear Security Administration.

[FR Doc. 2012-21983 Filed 9-5-12; 8:45 am]

BILLING CODE 6450-01-P